SUSQUEHANNA RIVER BASIN COMMISSION

Public Hearing

AGENCY: Susquehanna River Basin Commission.

ACTION: Notice.

SUMMARY: The Susquehanna River Basin Commission is seeking public comment on a new proposed general permit, General Permit GP-02 Groundwater Withdrawals for Emergency Uses or Maintenance (GP-02). The proposed General Permit would approve the withdrawal of groundwater from wells for (1) emergency uses or (2) maintenance activities. The Commission will take oral testimony on the proposed General Permit at its regularly scheduled public hearing on May 4, 2023. The Commission will hold this hearing in person and telephonically. The deadline for the submission of written comments on the General Permit is May 30, 2023.

DATES: The public hearing will convene on May 4, 2023, at 6:30 p.m. The public hearing will end at 9 p.m. or at the conclusion of public testimony, whichever is earlier. The deadline for submitting written comments on the General Permit is Tuesday, May 30, 2023.

ADDRESSES: This public hearing will be conducted in person and virtually. You may attend in person at Susquehanna River Basin Commission, 4423 N Front St., Harrisburg, Pennsylvania, or join by telephone at Toll-Free Number 1-877-304-9269 and then enter the guest passcode 2619070 followed by #.

FOR FURTHER INFORMATION CONTACT: Jason Oyler, General Counsel and Secretary to the Commission, telephone: (717) 238-0423 or joyler@srbc.net.

The proposed General Permit and Fact Sheet are available on the Commission's website at https://www.srbc.net.

SUPPLEMENTARY INFORMATION: GP-02 is designed to provide a pathway for projects that require temporary groundwater withdrawals, generally from back-up or reserve wells, to address an emergency or maintenance activity. Under SRBC regulations, these wells are subject to full technical review under 18 CFR part 806. For drinking water wells, they must also be fully permitted under the Safe Drinking Water laws and regulations of our member jurisdictions.

GP-02 allows for and encourages proactive planning for how a project conducts and maintains operations during emergency or maintenance outages of primary water sources. For public water supply sources specifically, GP-02 would focus the Commission's role with respect to wells needed for emergency or maintenance and activities, in part, by deferring to the member jurisdictions' safe drinking water permits as the primary sources of regulation. The proposed fee for coverage under GP-02 is $3,000, which includes review of the project's Contingency Plan and project details. This is less costly than the current regulatory review fees faced by these projects when they go through the full docket review process. GP-02 has a proposed term of fifteen (15) years, in keeping with Commission regulations at 18 CFR 806.31 where projects generally have a term of 15 years.

Opportunity To Appear and Comment

Interested parties may call into the hearing to offer comments to the Commission on any business listed above required to be the subject of a public hearing. Given the nature of the meeting, the Commission strongly encourages those members of the public wishing to provide oral comments to pre-register with the Commission by emailing Jason Oyler at joyler@srbc.net before the hearing date. The presiding officer reserves the right to limit oral statements in the interest of time and to control the course of the hearing otherwise. Access to the hearing via telephone will begin at 6:15 p.m. Guidelines for the public hearing are posted on the Commission's website, www.srbc.net, before the hearing for review. The presiding officer reserves the right to modify or supplement such guidelines at the hearing. Written comments on any business listed above required to be the subject of a public hearing may also be mailed to Mr. Jason Oyler, Secretary to the Commission, Susquehanna River Basin Commission, 4423 North Front Street, Harrisburg, Pa. 17110-1788, or submitted electronically through https://www.srbc.net/regulatory/public-comment/. Comments on the GP-02 mailed or electronically submitted must be received by the Commission on or before Tuesday, May 30, 2023, to be considered.

Authority: Pub. L. 91-575, 84 Stat. 1509 et seq.; 18 CFR 806.17.

Dated: April 12, 2023.
Jason E. Oyler,
General Counsel and Secretary to the Commission.

[FR Doc. 2023-08067 Filed 4-14-23; 8:45 am]

BILLING CODE 7040-01-P